DEPARTMENT OF COMMERCE

National Oceanic and Atmospheric Administration

50 CFR Parts 223 and 224

RIN 0648-XA535

Endangered and Threatened Species; 5-Year Reviews for 17 Evolutionarily Significant Units and Distinct Population Segments of Pacific Salmon and Steelhead

AGENCY: National Marine Fisheries Service (NMFS), National Oceanic and Atmospheric Administration (NOAA), Commerce.

ACTION: Notice of availability of 5-year reviews.

SUMMARY: NMFS Northwest Region announces the availability of 5-year reviews for 11 evolutionarily significant units (ESUs) of Pacific salmon (Oncorhynchus sp.) and 6 distinct population segments (DPSs) of steelhead (Oncorhynchus mykiss) in Oregon, Washington, and Idaho as required by the Endangered Species Act of 1973, as amended (ESA). The purpose of the reviews was to evaluate whether the listing classifications of these salmonids remains accurate or should be changed. After reviewing the best available scientific and commercial data, we conclude that the 11 ESUs of Pacific salmon and 6 DPSs of steelhead in Oregon, Washington, and Idaho shall remain listed as determined in 2005, 2006, and 2007.

ADDRESSES: Additional information about the 5-year reviews may be obtained by visiting the NMFS Northwest Regional Office Web site: http://www.nwr.noaa.gov/, or by writing to us at: NMFS Northwest Region, 1201 Lloyd Blvd., Suite 1100, Portland, OR 97232.

FOR FURTHER INFORMATION CONTACT: Eric Murray (503) 231-2378.

SUPPLEMENTARY INFORMATION:

Background

Under the ESA, a list of endangered and threatened wildlife and plant species must be maintained. The list is published at 50 CFR 17.11 and 50 CFR 223.102 (for animals) and 17.12 (for plants). Section 4(c)(2)(A) of the ESA requires that we conduct a review of listed species at least once every 5 years. On the basis of such reviews under section 4(c)(2)(B), we determine whether any species should be removed from the list (delisted), or reclassified from endangered to threatened or from threatened to endangered. During 5-year reviews, we consider the best scientific and commercial data available, including new information that has become available since the last listing determination or most recent status review of a species.

On March 18, 2010, the NMFS Northwest and Southwest Regional Offices announced initiation of 5-year reviews of Pacific salmon ESUs and steelhead DPSs (75 FR 13082). Both ESUs and DPSs are treated as `species' under the ESA, and we use the term `species' to refer to both in the remainder of this notice. At the time of our announcement, we requested information on species viability, protective efforts, and threats to the species from the public, concerned governmental agencies, Tribes, the scientific community, environmental entities, and other interested parties.

This notice addresses the following salmon species: (1) Upper Columbia River spring-run Chinook salmon; (2) Snake River spring/summer-run Chinook salmon; (3) Puget Sound Chinook salmon; (4) Lower Columbia River Chinook salmon; (5) Upper Willamette Chinook salmon; (6) Snake River fall-run Chinook salmon; (7) Hood Canal summer-run chum salmon; (8) Columbia River chum salmon; (9) Lower Columbia River coho salmon; (10) Snake River sockeye salmon; and (11) Ozette Lake sockeye salmon. We did not complete a 5-year review for the Oregon Coast coho salmon because, as part of a legal settlement, we previously agreed to conduct a new review of the status of this species. On June 20, 2011, we issued a final rule re-promulgating the threatened listing for Oregon Coast coho salmon (76 FR 35755).

This notice also addresses the following steelhead species: (1) Upper Columbia River steelhead DPS; (2) Middle Columbia River steelhead DPS; (3) Snake River Basin steelhead DPS; (4) Lower Columbia River steelhead DPS; (5) Upper Willamette steelhead DPS; and (6) Puget Sound steelhead DPS. Information about these species can be found at our Northwest Regional Web site: http://www.nwr.noaa.gov/.

We used a two-step process to complete the reviews of the listed salmonid species in Oregon, Washington, and Idaho. First, we asked scientists from our Northwest Fisheries Science Center to collect and analyze new information about species viability. To evaluate viability, our scientists apply the Viable Salmonid Population (VSP) concept. The VSP concept relies on evaluating four criteria—abundance, productivity, spatial structure, and diversity—to assess species viability. They also considered new genetic and biogeographic information regarding species' boundaries. At the end of this process, the science team prepared a report detailing the results of their analyses. This report is available at our regional Web site.

Salmon management biologists from our Northwest Regional Office completed the second step in the review process. These biologists, organized into geographically-based teams, reviewed new information related to the five ESA section 4(a)(1) factors, which we consider when determining if a species should be listed as threatened or endangered or be de-listed. These are: (1) The present or threatened destruction, modification, or curtailment of the species' habitat or range; (2) overutilization for commercial, recreational, scientific, or educational purposes; (3) disease or predation; (4) inadequacy of existing regulatory mechanisms; or (5) other natural or man-made factors affecting the species' continued existence. The biologists also evaluated new information on hatchery programs to inform an updated assessment of which hatchery programs should be included as part of the listed species. They applied our Policy Addressing the Role of Artificially Propagated Pacific Salmon and Steelhead in Listing Determinations under the ESA (70 FR 37204) to complete this evaluation. The 5-year review reports, the science team report, and additional information are available on our Web site: http://nwr.noaa.gov.

Findings

After considering the best available information, we conclude that all 11 Pacific salmon species and 6 steelhead species in Oregon, Washington, and Idaho shall remain listed as currently classified.

We also conclude that, based on the best information available, no adjustments to species boundaries are necessary. We did conclude that the species membership of several hatchery programs will need to be revised, and we also identified several errors in our current species descriptions in the list of threatened and endangered species found at 50 CFR 17.11, 223.102, and 224.102. We will adjust the hatchery memberships and correct any listing inaccuracies through a subsequent rulemaking.

Authority: 16 U.S.C. 1531 et seq.

Dated: August 8, 2011.
Therese Conant,
Deputy Chief, Endangered Species Division, Office of Protected Resources, National Marine Fisheries Service.

[FR Doc. 2011-20453 Filed 8-12-11; 8:45 am]

BILLING CODE 3510-22-P